DEPARTMENT OF HOMELAND SECURITY

Coast Guard

33 CFR Part 100

[Docket No. USCG-2016-0517]

Special Local Regulation; Annual Marine Events on the Colorado River, Between Davis Dam (Bullhead City, Arizona) and Headgate Dam (Parker, Arizona) Within the San Diego Captain of the Port Zone

AGENCY: Coast Guard, DHS.

ACTION: Notice of enforcement of regulation.

SUMMARY: The Coast Guard will enforce the special local regulations for the Bullhead City River Regatta marine event on the navigable waters of the Colorado River on August 13, 2016. This action is necessary to provide for the safety of the participants, crew, spectators, safety vessels, and general users of the waterway. Our regulation for the annual marine events on the Colorado River, between Davis Dam (Bullhead City, Arizona) and Headgate Dam (Parker, Arizona) identifies the regulated area for this event. During the enforcement period, no spectator shall anchor, block, loiter, nor impede the through transit of participants or official patrol vessels within this regulated area unless authorized by the Captain of the Port, or a designated representative.

DATES: The regulations in 33 CFR 100.1102 will be enforced from 6 a.m. through 6 p.m. on August 13, 2016 for Item 16 in Table 1 of 33 CFR 100.1102.

FOR FURTHER INFORMATION CONTACT: If you have questions on this publication, call or email Petty Officer Randolph Pahilanga, Waterways Management, U.S. Coast Guard Sector San Diego, CA; telephone 619-278-7656, D11MarineEventsSD@uscg.mil.

SUPPLEMENTARY INFORMATION:

The Coast Guard will enforce the special local regulations in 33 CFR 100.1102 for the Bullhead City River Regatta in 33 CFR 100.1102, Table 1, Item 16 of that section from 6 a.m. to 6 p.m. on August 13, 2016. This action is necessary to provide for the safety of the participants, crew, spectators, safety vessels, and general users of the waterway. Our regulation for the annual marine events on the Colorado River, between Davis Dam (Bullhead City, Arizona) and Headgate Dam (Parker, Arizona) identifies the regulated entities for this event. Under the provisions of 33 CFR 100.1102, no spectator shall anchor, block, loiter, nor impede the through transit of participants or official patrol vessels within this regulated area of the Colorado River unless authorized by the Captain of the Port, or his designated representative. The Coast Guard may be assisted by other Federal, state, or local law enforcement agencies in enforcing this regulation.

This document is issued under authority of 33 CFR 100.1102 and 5 U.S.C. 552(a). In addition to this document in the Federal Register, the Coast Guard will provide the maritime community with extensive advance notification of this enforcement period via the Local Notice to Mariners and local advertising by the event sponsor.

If the Captain of the Port or his designated representative determines that the regulated area need not be enforced for the full duration stated on this document, he or she may use a Broadcast Notice to Mariners or other communications coordinated with the event sponsor to grant general permission to enter the regulated area.

Dated: June 18, 2016.
E.M. Cooper,
Commander, U.S. Coast Guard, Acting Captain of the Port San Diego.

[FR Doc. 2016-17765 Filed 7-26-16; 8:45 am]

BILLING CODE 9110-04-P